DEPARTMENT OF ENERGY

Federal Energy Regulatory Commission

[Project No. 2496-102]

Eugene Water and Electric Board; Notice Rejecting Request for Rehearing

November 1, 2004.

1. On September 20, 2004, the Director, Division of Hydropower Administration and Compliance, issued an order granting the licensee for the Leaburg-Walterville Hydroelectric Project No. 2496 an extension of time to comply with the requirements of Articles 412 and 413 of the project license.¹ On October 18, 2004, the Oregon Department of Fish and Wildlife (Oregon DFW) filed a request for rehearing of that order.

¹ These articles require the licensee to file a plan to augment spawning gravel downstream from the Leaburg dam and a fish habitat enhancement plan.

2. Pursuant to section 313(a) of the Federal Power Act, 16 U.S.C. 825l(a), a request for rehearing may be filed only by a party to the proceeding. In order for Oregon DFW to be a party to the proceeding, it must have timely filed a motion to intervene pursuant to Rule 214 of the Rules of Practice and Procedure, 18 CFR 385.214, not later than 30 days after issuance of the September 20, 2004 order.² Since Oregon DFW did not file a motion to intervene in the request for extension of time proceeding, its request for rehearing must be rejected.

² See Pacific Gas and Electric Company, 40 FERC ¶ 61,035 (1987).

3. This notice constitutes final agency action. Request for rehearing by the Commission of this rejection notice must be filed within 30 days of the date of issuance of this notice, pursuant to 18 CFR 385.713.

Linda Mitry,
Deputy Secretary.

[FR Doc. E4-3042 Filed 11-5-04; 8:45 am]

BILLING CODE 6717-01-P